DEPARTMENT OF DEFENSE

Office of the Secretary

[Transmittal Nos. 13-04]

36(b)(1) Arms Sales Notification

AGENCY: Department of Defense, Defense Security Cooperation Agency.

ACTION: Notice.

SUMMARY: The Department of Defense is publishing the unclassified text of a section 36(b)(1) arms sales notification. This is published to fulfill the requirements of section 155 of Public Law 104-164 dated July 21, 1996.

FOR FURTHER INFORMATION CONTACT: Ms. B. English, DSCA/DBO/CFM, (703) 601-3740.

The following is a copy of a letter to the Speaker of the House of Representatives, Transmittals 13-04 with attached transmittal, policy justification, and Sensitivity of Technology.

Dated: April 11, 2013.
Aaron Siegel,
Alternate OSD Federal Register Liaison Officer, Department of Defense.

Transmittal No. 13-04

Notice of Proposed Issuance of Letter of Offer Pursuant to Section 36(b)(1) of the Arms Export Control Act, as amended

(i) Prospective Purchaser: Republic of Singapore

(ii) Total Estimated Value:

Major Defense Equipment * | $24 million
Other | $12 million
TOTAL | $36 million
* As defined in Section 47(6) of the Arms Export Control Act.

(iii) Description and Quantity or Quantities of Articles or Services under Consideration for Purchase: 20 AIM-9X-2 SIDEWINDER Block II All Up Round Missiles, 8 CATM-9X-2 Captive Air Training Missiles, 5 CATM-9X-2 Block II Missile Guidance units, 2 AIM-9X-2 Block II Tactical Guidance units, containers, spare and repair parts, support and test equipment, publications and technical documentation, personnel training and training equipment, U.S. Government and contractor engineering, technical and logistics support services, and other related elements of logistical and program support.

(iv) Military Department: Navy (ADF).

(v) Prior Related Cases, if any: None.

(vi) Sales Commission, Fee, etc., Paid, Offered, or Agreed to be Paid: None.

(vii) Sensitivity of Technology Contained in the Defense Article or Defense Services Proposed to be Sold: See Attached Annex.

(viii) Date Report Delivered to Congress: 03 April 2013.

POLICY JUSTIFICATION

Singapore—AIM-9X SIDEWINDER Missiles

The Government of the Republic of Singapore has requested a possible sale of 20 AIM 9X-2 SIDEWINDER Block II All Up Round Missiles, 8 CATM-9X-2 Captive Air Training Missiles, 5 CATM-9X-2 Block II Missile Guidance units, 2 AIM-9X-2 Block II Tactical Guidance units, containers, spare and repair parts, support and test equipment, publications and technical documentation, personnel training and training equipment, U.S. Government and contractor engineering, technical and logistics support services, and other related elements of logistical and program support. The estimated cost is $36 million.

This proposed sale will contribute to the foreign policy and national security of the United States by increasing the ability of the Republic of Singapore to contribute to regional security. Its contributions to counter-piracy and counterterrorism efforts continue to stabilize a critical chokepoint where much of the world's goods and services transit en route to and from the Asia Pacific region. The proposed sale will improve the security of a strategic partner which has been, and continues to be, an important force for political stability and economic progress in the Asia Pacific region. Specifically, this proposed sale will improve the Republic of Singapore Air Force's (RSAF) air to air capability and ability to defend its nation and cooperate with allied air forces

The Republic of Singapore requires these missiles to meet current and future threats of enemy aircraft. The proposed sale will enhance RSAF's ability to operate with coalition forces in bilateral and multilateral exercises and potential air defense operations. Singapore will use these capabilities as a deterrent to regional threats and to strengthen its homeland defense. Singapore will have no difficulty absorbing the AIM-9X-2 into its armed forces.

The proposed sale of this equipment and support will not alter the basic military balance in the region.

The prime contractor will be Raytheon Missile Systems in Tucson, Arizona. There are no known offset agreements proposed in connection with this potential sale.

Implementation of this proposed sale will not require the assignment of any additional U.S. Government or contractor representatives to the Republic of Singapore.

There will be no adverse impact on U.S. defense readiness as a result of this proposed sale.

Transmittal No. 13-04

Notice of Proposed Issuance of Letter of Offer Pursuant to Section 36(b)(1) of the Arms Export Control Act

Annex Item No. vii

(vii) Sensitivity of Technology:

1. The AIM-9X-2 Block II SIDEWINDER Missile represents a substantial increase in missile acquisition and kinematics performance over the AIM-9M and replaces the AIM-9X Block 1 Missile configuration. The missile includes a high off-boresight seeker, enhanced countermeasure rejection capability, low drag/high angle of attack airframe and the ability to integrate the Helmet Mounted Cueing System. The software continues to be modified via a pre-planned product improvement (P3I) program in order to improve its counter-countermeasure capabilities. No software source code or algorithms will be released. The missile is classified as Confidential.

2. The sale of AIM-9X-2 under this FMS case will result in the transfer of sensitive technological information and or/restricted information. The equipment, hardware, and documentation are classified Confidential. The software and operational performance are classified Secret. The seeker/guidance control section and the target detector are necessary to support operational use and organizational management are classified up to Secret. Performance and operating logic of the counter-countermeasures circuits are classified Secret. The hardware, software, and data identified are classified to protect vulnerabilities, design and performance parameters and similar critical information.

3. If a technologically advanced adversary were to obtain knowledge of the specific hardware and software elements, primarily performance characteristics, engagement algorithms and transmitter specific frequencies, the information could be used to develop countermeasures that might reduce weapon system effectiveness.

[FR Doc. 2013-08950 Filed 4-16-13; 8:45 am]

BILLING CODE 5001-06-P